ENVIRONMENTAL PROTECTION AGENCY

[FRL-7552-3]

Notice of Vacature of Specific Applicability Determinations Concerning National Emission Standards for Hazardous Air Pollutants for Secondary Aluminum

AGENCY: Environmental Protection Agency (EPA).

ACTION: Notice.

SUMMARY: This notice announces that EPA has vacated two applicability determinations concerning the National Emission Standards for Hazardous Air Pollutants (NESHAP) for Secondary Aluminum Production, 40 CFR part 63, subpart RRR, which were previously made by EPA in response to requests submitted by the U.S. Granules Corporation. EPA has determined that these two applicability determinations reflect conflicting constructions concerning the applicability of Subpart RRR to operations like those conducted at the U.S. Granules facilities, and that the retention of such conflicting constructions is inappropriate as a matter of law and policy. Now that these determinations have been vacated, EPA will commence a process to adopt a single uniform construction of Subpart RRR which will apply to all operations like those conducted at the U.S. Granules facilities.

FOR FURTHER INFORMATION CONTACT: For specific questions concerning the actions described in this notice, contact Scott Throwe at EPA by phone at: (202) 564-7013, or by e-mail at: throwe.scott@epa.gov. For general questions concerning the Applicability Determination Index maintained by the EPA Office of Enforcement and Compliance Assurance (OECA), contact Maria Malave at EPA by phone at: (202) 564-7027, or by e-mail at: malave.maria@epa.gov.

SUPPLEMENTARY INFORMATION: This notice announces the vacature of two applicability determinations made concerning the NESHAP for Secondary Aluminum, 40 CFR part 63, subpart RRR. An applicability determination concerning the U.S. Granules facility in Plymouth, Indiana was made by the EPA Region 5 Air Enforcement and Compliance Assurance Branch on August 21, 2002, in response to a request for such a determination by U.S. Granules dated August 14, 2002. Notice of this applicability determination (Control No. M020112) was published in the Federal Register on February 13, 2003. 68 FR 7373. The decision to vacate this determination was subsequently announced in a letter to U.S. Granules dated June 19, 2003.

An applicability determination concerning the U.S. Granules facility in Henrietta, Missouri was made by the EPA Region 7 Air Permitting and Compliance Branch on October 22, 2002, in response to a request for such a determination by U.S. Granules dated October 11, 2002. Notice of this applicability determination (Control No. M020117) was also published in the Federal Register on February 13, 2003. 68 FR 7373. The decision to vacate this determination was subsequently announced in a letter to U.S. Granules dated June 23, 2003.

After issuance of these two applicability determinations, EPA determined that these determinations reflect conflicting constructions concerning the applicability of Subpart RRR to operations like those conducted at the U.S. Granules facilities. EPA also determined that the retention of such conflicting constructions would be inappropriate as a matter of law and policy. Accordingly, EPA decided to vacate both of these applicability determinations and to commence a process to adopt a single uniform construction of Subpart RRR which will apply to all operations like those conducted at the U.S. Granules facilities.

The vacature of each of the applicability determinations concerning U.S. Granules facilities described in this notice was final and effective on the date that the letter announcing that vacature was signed. This notice is being published to assure that parties other than U.S. Granules who may be interested in these determinations are also notified that they have been vacated. In addition to this notice, EPA will update the Applicability Determination Index maintained by OECA to reflect the vacature of these determinations.

Dated: August 20, 2003.
Michael S. Alushin,
Director, Compliance Assessment and Media Programs Division, Office of Compliance.

[FR Doc. 03-22450 Filed 9-2-03; 8:45 am]

BILLING CODE 6560-50-P